DEPARTMENT OF COMMERCE

International Trade Administration

[C-489-843]

Prestressed Concrete Steel Wire Strand From the Republic of Turkey: Postponement of Preliminary Determination of Countervailing Duty Investigation

AGENCY: Enforcement and Compliance, International Trade Administration, Department of Commerce.

DATES: Applicable July 1, 2020.

FOR FURTHER INFORMATION CONTACT: Whitley Herndon, AD/CVD Operations, Office II, Enforcement and Compliance, International Trade Administration, U.S. Department of Commerce, 1401 Constitution Avenue NW, Washington, DC 20230; telephone: (202) 482-6274.

SUPPLEMENTARY INFORMATION:

Background

On May 6, 2020, the Department of Commerce (Commerce) initiated a countervailing duty (CVD) investigation on imports of prestressed concrete steel wire strand (PC strand) from the Republic of Turkey (Turkey).¹ Currently, the preliminary determination is due no later than July 10, 2020.

¹ See Prestressed Concrete Steel Wire Strand from the Republic of Turkey: Initiation of Countervailing Duty Investigation, 85 FR 28610 (May 13, 2020).

Postponement of Preliminary Determination

Section 703(b)(1) of the Tariff Act of 1930, as amended (the Act), requires Commerce to issue the preliminary determination in a CVD investigation within 65 days after the date on which Commerce initiated the investigation. However, section 703(c)(1) of the Act permits Commerce to postpone the preliminary determination until no later than 130 days after the date on which Commerce initiated the investigation if: (A) The petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.²

² See 19 CFR 351.205(e).

On June 12, 2020, the petitioners ³ submitted a timely request that Commerce postpone the preliminary CVD determination.⁴ The petitioners request postponement to allow the petitioners and other interested parties additional time to analyze the initial questionnaire responses submitted by respondents and the Government of Turkey, and for Commerce to request additional or clarifying information, if necessary.⁵

³ The petitioners consist of Insteel Wire Products Company, Sumiden Wire Products Corporation, and Wire Mesh Corporation.

⁴ See Petitioners' Letter, “Prestressed Concrete Steel Wire Strand from the Republic of Turkey—Petitioners' Request to Postpone Preliminary Determination,” dated June 12, 2020.

⁵ Id. at 2.

In accordance with 19 CFR 351.205(e), the petitioners have stated the reasons for requesting a postponement of the preliminary determination, and Commerce finds no compelling reason to deny the request. Therefore, pursuant with section 703(c)(1)(A) of the Act, Commerce is postponing the deadline for the preliminary determination to no later than 130 days after the day on which these investigations were initiated, i.e., September 14, 2020.⁶ Pursuant to section 705(a)(1) of the Act and 19 CFR 351.210(b)(1), the deadline for the final determination of this investigation will continue to be 75 days after the date of the preliminary determination, unless postponed at a later date.

⁶ The 130th day falls on Sunday, September 13, 2020. It is Commerce's practice that where a deadline falls on a weekend or federal holiday, the appropriate deadline is the next business day. See Notice of Clarification: Application of “Next Business Day” Rule for Administrative Determination Deadlines Pursuant to the Tariff Act of 1930, As Amended, 70 FR 24533 (May 10, 2005).

Notification to Interested Parties

This notice is issued and published pursuant to section 703(c)(2) of the Act.

Dated: June 25, 2020.
Jeffrey I. Kessler,
Assistant Secretary for Enforcement and Compliance.

[FR Doc. 2020-14199 Filed 6-30-20; 8:45 am]

BILLING CODE 3510-DS-P